DEPARTMENT OF TRANSPORTATION

Federal Aviation Administration

14 CFR Part 39

[Docket No. FAA-2024-2662; Project Identifier MCAI-2024-00448-T]

RIN 2120-AA64

Airworthiness Directives; The Boeing Company Airplanes

AGENCY: Federal Aviation Administration (FAA), DOT.

ACTION: Notice of proposed rulemaking (NPRM).

SUMMARY: The FAA proposes to adopt a new airworthiness directive (AD) for certain The Boeing Company Model 767-300 series airplanes modified by a certain supplemental type certificate (STC). This proposed AD was prompted by a discovery that certain pitot-static tubing of the first officer's pitot-static system was installed incorrectly in the main and mid equipment center during the airplane conversion from passenger to freighter. This proposed AD would require a visual inspection of certain pitot-static rigid tubes and flexible hoses to determine whether low points exist, and if necessary, related investigative and corrective actions. The FAA is proposing this AD to address the unsafe condition on these products.

DATES: The FAA must receive comments on this proposed AD by January 31, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2662; or in person at Docket Operations between 9 a.m. and 5 p.m., Monday through Friday, except Federal holidays. The AD docket contains this NPRM, the mandatory continuing airworthiness information (MCAI), any comments received, and other information. The street address for Docket Operations is listed above.

Material Incorporated by Reference:

• For Israel Aerospace Industries, Ltd. material identified in this proposed AD, contact Israel Aerospace Industries, Ltd., Ben-Gurion International Airport, Israel 70100; telephone 972-39359826; email tmazor@iai.co.il.

• You may view this material at the FAA, Airworthiness Products Section, Operational Safety Branch, 2200 South 216th St., Des Moines, WA. For information on the availability of this material at the FAA, call 206-231-3195.

FOR FURTHER INFORMATION CONTACT: Joe Salameh, Aviation Safety Engineer, FAA, 1600 Stewart Avenue, Suite 410, Westbury, NY 11590; telephone: 206-231-3536; email: Joe.Salameh@faa.gov.

SUPPLEMENTARY INFORMATION:

Comments Invited

The FAA invites you to send any written relevant data, views, or arguments about this proposal. Send your comments to an address listed under the ADDRESSES section. Include “Docket No. FAA-2024-2662; Project Identifier MCAI-2024-00448-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Joe Salameh, Aviation Safety Engineer, FAA, 1600 Stewart Avenue, Suite 410, Westbury, NY 11590; telephone: 206-231-3536; email: Joe.Salameh@faa.gov. Any commentary that the FAA receives which is not specifically designated as CBI will be placed in the public docket for this rulemaking.

Background

The Civil Aviation Authority of Israel (CAAI), which is the aviation authority for Israel, has issued CAAI AD ISR I-34-2024-07-1, dated August 6, 2024 (CAAI AD ISR I-34-2024-07-1) (also referred to after this as the MCAI), to correct an unsafe condition for The Boeing Company Model 767-300 series airplanes, that have been modified to freighters, in accordance with CAAI STC SA-218 (FAA STC ST02040SE, EASA STC 10028430, CAAC VSTC0812, TCCA SA14-67, ANAC 2011S03-12). Only FAA STC ST02040SE is approved for U.S. operators. The MCAI states that due to the pitot-static tubing improper rerouting on the airplane conversion from passenger to freighter, two erroneous conditions were found in the tubing connecting the pitot and the static system tubing to the right air data computer belonging to the first officer system: The flexible hoses part number (P/N) BACH30BC06-0097 and P/N BACH30BC05-0111, creating a potential water trap; and rigid tubes P/N 233T9110-437 and P/N 233T9110-320/314 installed through a structure 9G rigid barrier opening, creating a potential water trap.

The FAA is proposing this AD to address the incorrect installation of the pitot-static tubing of the first officer's pitot-static system. The unsafe conditions, if not addressed, may affect the capability to drain water or moisture collected in the first officer pitot-static tubing, and may cause malfunction to the system.

You may examine the MCAI in the AD docket at regulations.gov under Docket No. FAA-2024-2662.

Material Incorporated by Reference Under 1 CFR Part 51

The FAA reviewed Israel Aerospace Industry Ltd., Service Bulletin 368-34-106, dated August 2024. This material specifies procedures for a visual inspection of the pitot-static rigid tubes, P/N 233T9110-437 and P/N 233T9110-314, and the flexible hoses, P/N BACH30BC06-0097 and P/N BACH30BC05-0111, to determine whether low points exist, and related investigative and corrective actions. The related investigative action is a visual inspection for the installation of the provisions located above the right miscellaneous electrical equipment panel (P37). The corrective actions include replacement of the pitot and the static system tubing connected to the right air data computer, including installation of standoffs, rigid tubes, union fitting, elbow fitting, flexible hoses, and performing functional tests.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require accomplishing the actions specified in the material already described.

Costs of Compliance

The FAA estimates that this AD, if adopted as proposed, would affect 88 airplanes of U.S. registry. The FAA estimates the following costs to comply with this proposed AD:

Estimated Costs for Required Actions
Labor cost | Parts cost | Cost per product | Cost on U.S. operators
Up to 2 work-hours × $85 per hour = Up to $170 | $0 | Up to $170 | Up to $14,960.

The FAA estimates the following costs to do any necessary on-condition actions that would be required based on the results of any required actions. The FAA has no way of determining the number of aircraft that might need this on-condition action:

Estimated Costs of On-Condition Actions
Labor cost | Parts cost | Cost per product
11 work-hours × $85 per hour = $935 | $600 | $1,535

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2024-2662; Project Identifier MCAI-2024-00448-T.

(a) Comments Due Date

The FAA must receive comments on this airworthiness directive (AD) by January 31, 2025.

(b) Affected ADs

None.

(c) Applicability

This AD applies to The Boeing Company Model 767-300 series airplanes, certificated in any category, that have been modified to a special freighter configuration, in accordance with FAA Supplemental Type Certificate (STC) ST02040SE, and which are listed in paragraph I.A., “Effectivity,” of Israel Aerospace Industry Ltd., Service Bulletin 368-34-106, dated August 2024.

(d) Subject

Air Transport Association (ATA) of America Code 34, Navigation.

(e) Unsafe Condition

This AD was prompted by a discovery that certain pitot-static tubing of the first officer's pitot-static system was installed incorrectly in the main and mid equipment center during the airplane conversion from passenger to freighter. The FAA is issuing this AD to address the incorrect installation of the pitot-static tubing of the first officer's pitot-static system. The unsafe condition, if not addressed, may affect the capability to drain water or moisture collected in the first officer pitot-static tubing, and may cause malfunction to the system.

(f) Compliance

Comply with this AD within the compliance times specified, unless already done.

(g) Required Actions

Within 36 months after the effective date of this AD, do a visual inspection of the pitot-static rigid tubes, part number (P/N) 233T9110-437 and P/N 233T9110-314, and the flexible hoses, P/N BACH30BC06-0097 and P/N BACH30BC05-0111, at the locations specified in the Accomplishment Instructions of Israel Aerospace Industries Ltd., Service Bulletin 368-34-106, dated August 2024, to determine whether low points exist, and, before further flight, do all applicable related investigative and corrective actions, in accordance with the Accomplishment Instructions of Israel Aerospace Industries Ltd., Service Bulletin 368-34-106, dated August 2024.

(h) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (i) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the Civil Aviation Authority of Israel (CAAI); or the CAAI's authorized Designee. If approved by the CAAI Designee, the approval must include the Designee's authorized signature.

(i) Additional Information

For more information about this AD, contact Joe Salameh, Aviation Safety Engineer, FAA, 1600 Stewart Avenue, Suite 410, Westbury, NY 11590; telephone: 206-231-3536; email: Joe.Salameh@faa.gov.

(j) Material Incorporated by Reference

(1) The Director of the Federal Register approved the incorporation by reference of the material listed in this paragraph under 5 U.S.C. 552(a) and 1 CFR part 51.

(2) You must use this material as applicable to do the actions required by this AD, unless this AD specifies otherwise.

(i) Israel Aerospace Industries Ltd. Service Bulletin 368-34-106, dated August 2024.

(ii) [Reserved]

(3) For Israel Aerospace Industry Ltd. material identified in this AD, contact Israel Aerospace Industries, Ltd., Ben-Gurion International Airport, Israel 70100; telephone 972-39359826; email tmazor@iai.co.il.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 11, 2024.
Victor Wicklund,
Deputy Director, Compliance & Airworthiness Division, Aircraft Certification Service.

[FR Doc. 2024-29619 Filed 12-16-24; 8:45 am]

BILLING CODE 4910-13-P